ENVIRONMENTAL PROTECTION AGENCY

[EPA-HQ-OPP-2012-0390; FRL-9357-7]

Registration Applications for Pesticide Products Containing New Active Ingredients

AGENCY: Environmental Protection Agency (EPA).

ACTION: Notice.

SUMMARY: This notice announces receipt of applications to register pesticide products containing new active ingredients not included in any currently registered products pursuant to the provisions of section 3(c)(4) of the Federal Insecticide, Fungicide, and Rodenticide Act (FIFRA), as amended.

DATES: Comments must be received on or before September 13, 2012.

ADDRESSES: Submit your comments, identified by docket identification (ID) number EPA-HQ-OPP-2012-0390 by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: A contact person is listed at the end of each registration application summary and may be contacted by telephone, email, or mail. Mail correspondence to the Biopesticides and Pollution Prevention Division (7511P), Office of Pesticide Programs, Environmental Protection Agency, 1200 Pennsylvania Ave. NW., Washington, DC 20460-0001. As part of the mailing address, include the contact person's name, division, and mail code.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number). If you are commenting in a docket that addresses multiple products, please indicate to which file symbols your comment applies.

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA received applications as follows to register pesticide products containing active ingredients not included in any previously registered products pursuant to the provision of section 3(c)(4) of FIFRA. Notice of receipt of these applications does not imply a decision by the Agency on the applications.

1. File Symbol: 6218-IG. Docket Number: EPA-HQ-OPP-2012-0485. Applicant: Summit Chemical Company, 235 South Kresson Street, Baltimore, MD 21224-2616. Active Ingredient: Bacillus thuringiensis subsp. israelensis, Strain SUM-6218 at 100.0%. Product Type: microbial insecticide. Proposed Use: Manufacturing use. Contact: Denise Greenway, (703) 308-8263, email address: greenway.denise@epa.gov.

2. File Symbol: 88847-R. Docket Number: EPA-HQ-OPP-2012-0391. Applicant: Vestaron Corporation, 4717 Campus Drive, Suite 1200, Kalamazoo, MI 49008. Active Ingredient: GS-U-ACTX-Hv1a-SEQ2 at 30.00%. Product Type: Insecticide. Proposed Use: Manufacturing use. Contact: Susanne Cerrelli, (703) 308-8077, email address: cerrelli.susanne@epa.gov.

3. File Symbol: 88847-E. Docket Number: EPA-HQ-OPP-2012-0391. Applicant: Vestaron Corporation, 4717 Campus Drive, Suite 1200, Kalamazoo, MI 49008. Active Ingredient: GS-U-ACTX-Hv1a-SEQ2 at 20.00%. Product Type: Insecticide. Proposed Uses: For use on ornamental plants, turf, vegetables, fruits, and field crops against a variety of insect pests. Contact: Susanne Cerrelli, (703) 308-8077, email address: cerrelli.susanne@epa.gov.

4. File Symbol: 89046-E. Docket Number: EPA-HQ-OPP-2012-0507. Applicant: W.F. Stoneman Company LLC, PO Box 465, McFarlane, WI 53558 (on behalf of AEF Global, 201, Mgr-Bourget, Lévis Québec, G6V 6Z3 Canada). Active Ingredient: Gliocladium roseum strain 321U at 100%. Product Type: Fungicide. Proposed Use: Manufacturing use. Contact: Kathleen Martin, (703) 308-2857, email address: martin.kathleen@epa.gov.

5. File Symbol: 89046-R. Docket Number: EPA-HQ-OPP-2012-0507. Applicant: W.F. Stoneman Company LLC, PO Box 465, McFarlane, WI 53558 (on behalf of AEF Global, 201, Mgr-Bourget, Lévis Québec, G6V 6Z3 Canada). Active Ingredient: Gliocladium roseum strain 321U at 20%. Product Type: Fungicide. Proposes Uses: As a treatment for green lumber, to prevent sap staining of sawn wood products and logs. Contact: Kathleen Martin, (703) 308-2857, email address: martin.kathleen@epa.gov.

List of Subjects

Environmental protection, Pesticides and pest.

Dated: August 3, 2012.
Lois Rossi,
Director, Registration Division, Office of Pesticide Programs.

[FR Doc. 2012-19989 Filed 8-13-12; 8:45 am]

BILLING CODE 6560-50-P